DEPARTMENT OF HOMELAND SECURITY

Federal Emergency Management Agency

44 CFR Part 64

[Docket ID FEMA-2010-0003; Internal Agency Docket No. FEMA-8127]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street, SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region III
Virginia:
Middlesex County, Unincorporated Areas | 510098 | October 18, 1974, Emerg; January 18, 1989, Reg; May 3, 2010, Susp | 5/3/2010 | 5/3/2010
Urbanna, Town of, Middlesex County | 510292 | May 21, 1975, Emerg; November 3, 1989, Reg; May 3, 2010, Susp | ......do- | -Do-.
West Virginia:
Friendly, Town of, Tyler County | 540259 | December 23, 1975, Emerg; November 4, 1988, Reg; May 3, 2010, Susp | ......do- | -Do-.
Middlebourne, Town of, Tyler County | 540195 | May 13, 1975, Emerg; November 4, 1988, Reg; May 3, 2010, Susp | ......do- | -Do-.
Sistersville, City of, Tyler County | 540197 | June 23, 1975, Emerg; November 4, 1988, Reg; May 3, 2010, Susp | ......do- | -Do-.
Tyler County, Unincorporated Areas | 540277 | August 6, 1975, Emerg; November 4, 1988, Reg; May 3, 2010, Susp | ......do- | -Do-.
Region IV
Alabama:
Beaverton, Town of, Lamar County | 010134 | August 22, 1974, Emerg; July 3, 1986, Reg; May 3, 2010, Susp | ......do- | -Do-.
Detroit, Town of, Lamar County | 010135 | August 30, 1974, Emerg; June 1, 1987, Reg; May 3, 2010, Susp | ......do- | -Do-.
Kennedy, Town of, Lamar County | 010136 | September 30, 1974, Emerg; August 5, 1986, Reg; May 3, 2010, Susp | ......do- | -Do-.
Lamar County, Unincorporated Areas | 010271 | March 16, 1976, Emerg; June 4, 1990, Reg; May 3, 2010, Susp | ......do- | -Do-.
Millport, Town of, Lamar County | 010137 | August 30, 1974, Emerg; September 18, 1985, Reg; May 3, 2010, Susp | ......do- | -Do-.
Sulligent, Town of, Lamar County | 010138 | August 14, 1974, Emerg; June 25, 1976, Reg; May 3, 2010, Susp | ......do- | -Do-.
Vernon, City of, Lamar County | 010139 | July 25, 1974, Emerg; December 17, 1987, Reg; May 3, 2010, Susp | ......do- | -Do-.
Florida:
Greenville, Town of, Madison County | 120150 | August 21, 1975, Emerg; July 1, 1987, Reg; May 3, 2010, Susp | ......do- | -Do-.
Lee, Town of, Madison County | 120151 | September 26, 1975, Emerg; April 30, 1986, Reg; May 3, 2010, Susp | ......do- | -Do-.
Madison, City of, Madison County | 120152 | August 1, 1975, Emerg; May 15, 1986, Reg; May 3, 2010, Susp | ......do- | -Do-.
Madison County, Unincorporated Areas | 120149 | May 28, 1975, Emerg; June 4, 1987, Reg; May 3, 2010, Susp | ......do- | -Do-.
Georgia:
Griffin, City of, Spalding County | 130165 | November 20, 1974, Emerg; January 1, 1987, Reg; May 3, 2010, Susp | ......do- | -Do-.
Spalding County, Unincorporated Areas | 130388 | N/A, Emerg; December 11, 1992, Reg; May 3, 2010, Susp | ......do- | -Do-.
Region V
Michigan:
Brooklyn, Village of, Jackson County | 260335 | June 18, 1982, Emerg; June 18, 1982, Reg; May 3, 2010, Susp | ......do- | -Do-.
Concord, Township of, Jackson County | 260946 | July 11, 1995, Emerg; May 3, 2010, Reg; May 3, 2010, Susp | ......do- | -Do-.
Concord, Village of, Jackson County | 260423 | June 29, 1976, Emerg; March 1, 1982, Reg; May 3, 2010, Susp | ......do- | -Do-.
Jackson, City of, Jackson County | 260273 | September 19, 1973, Emerg; December 15, 1977, Reg; May 3, 2010, Susp | ......do- | -Do-.
Leoni, Township of, Jackson County | 260930 | May 11, 1995, Emerg; May 3, 2010, Reg; May 3, 2010, Susp | ......do- | -Do-.
Norvell, Township of, Jackson County | 260424 | July 28, 1982, Emerg; September 30, 1988, Reg; May 3, 2010, Susp | ......do- | -Do-.
Algonac, City of, St. Clair County | 260191 | December 15, 1972, Emerg; January 5, 1978, Reg; May 3, 2010, Susp | ......do- | -Do-.
Burtchville, Township of, St. Clair County | 260193 | September 20, 1973, Emerg; August 1, 1986, Reg; May 3, 2010, Susp | ......do- | -Do-.
China, Township of, St. Clair County | 260203 | August 16, 1974, Emerg; August 1, 1978, Reg; May 3, 2010, Susp | ......do- | -Do-.
Clay, Township of, St. Clair County | 260194 | December 22, 1972, Emerg; June 1, 1978, Reg; May 3, 2010, Susp | ......do- | -Do-.
Columbus, Township of, St. Clair County | 260507 | December 18, 1975, Emerg; September 1, 1986, Reg; May 3, 2010, Susp | ......do- | -Do-.
Cottrellville, Township of, St. Clair County | 260196 | April 12, 1974, Emerg; September 17, 1980, Reg; May 3, 2010, Susp | ......do- | -Do-.
East China, Township of, St. Clair County | 260197 | February 9, 1973, Emerg; July 3, 1978, Reg; May 3, 2010, Susp | ......do- | -Do-.
Fort Gratiot, Township of, St. Clair County | 260198 | March 23, 1973, Emerg; December 15, 1978, Reg; May 3, 2010, Susp | ......do- | -Do-.
Ira, Township of, St. Clair County | 260199 | December 8, 1972, Emerg; March 4, 1980, Reg; May 3, 2010, Susp | ......do- | -Do-.
Kenockee, Township of, St. Clair County | 260915 | May 23, 1994, Emerg; May 3, 2010, Reg; May 3, 2010, Susp | ......do- | -Do-.
Kimball, Township of, St. Clair County | 260594 | January 8, 1979, Emerg; August 5, 1985, Reg; May 3, 2010, Susp | ......do- | -Do-.
Marine City, City of, St. Clair County | 260200 | January 26, 1973, Emerg; August 1, 1979, Reg; May 3, 2010, Susp | ......do- | -Do-.
Marysville, City of, St. Clair County | 260201 | June 11, 1973, Emerg; June 8, 1984, Reg; May 3, 2010, Susp | ......do- | -Do-.
Memphis, City of, St. Clair County | 260202 | September 26, 1975, Emerg; May 4, 1988, Reg; May 3, 2010, Susp | ......do- | -Do-.
Port Huron, Township of, St. Clair County | 260672 | February 22, 1988, Emerg; September 4, 1991, Reg; May 3, 2010, Susp | ......do- | -Do-.
St. Clair, City of, St. Clair County | 260279 | June 12, 1973, Emerg; June 15, 1978, Reg; May 3, 2010, Susp | ......do- | -Do-.
St. Clair, Township of, St. Clair County | 260205 | March 9, 1973, Emerg; August 1, 1978, Reg; May 3, 2010, Susp | ......do- | -Do-.
Wales, Township of, St. Clair County | 260508 | October 19, 1981, Emerg; July 18, 1985, Reg; May 3, 2010, Susp | ......do- | -Do-.
Ohio:
Blanchester, Village of, Clinton County | 390074 | N/A, Emerg; November 6, 1997, Reg; May 3, 2010, Susp | ......do- | -Do-.
Clarksville, Village of, Clinton County | 390820 | June 9, 1999, Emerg; May 3, 2010, Reg; May 3, 2010, Susp | ......do- | -Do-.
Clinton County, Unincorporated Areas | 390764 | January 29, 1979, Emerg; September 16, 1988, Reg; May 3, 2010, Susp | ......do- | -Do-.
Sabina, Village of, Clinton County | 390627 | February 27, 1981, Emerg; November 15, 1981, Reg; May 3, 2010, Susp | ......do- | -Do-.
Wilmington, City of, Clinton County | 390075 | October 17, 1974, Emerg; September 29, 1978, Reg; May 3, 2010, Susp | ......do- | -Do-.
Wisconsin:
Alma, City of, Buffalo County | 555540 | May 21, 1971, Emerg; December 8, 1972, Reg; May 3, 2010, Susp | ......do- | -Do-.
Buffalo County, Unincorporated Areas | 555547 | May 7, 1971, Emerg; January 5, 1973, Reg; May 3, 2010, Susp | ......do- | -Do-.
Buffalo, City of, Buffalo County | 555546 | March 19, 1971, Emerg; March 10, 1972, Reg; May 3, 2010, Susp | ......do- | -Do-.
Cochrane, Village of, Buffalo County | 555550 | March 19, 1971, Emerg; February 25, 1972, Reg; May 3, 2010, Susp | ......do- | -Do-.
Fountain City, City of, Buffalo County | 555555 | March 26, 1971, Emerg; April 20, 1972, Reg; May 3, 2010, Susp | ......do- | -Do-.
Mondovi, City of, Buffalo County | 550031 | May 28, 1974, Emerg; June 1, 1981, Reg; May 3, 2010, Susp | ......do- | -Do-.
Region VII
Kansas:
Jackson County, Unincorporated Areas | 200619 | June 14, 1982, Emerg; December 15, 1989, Reg; May 3, 2010, Susp | ......do- | -Do-.
Missouri:
Adrian, City of, Bates County | 290749 | July 27, 1976, Emerg; August 19, 1985, Reg; May 3, 2010, Susp | ......do- | -Do-.
Bates County, Unincorporated Areas | 290786 | October 10, 1997, Emerg; March 1, 2001, Reg; May 3, 2010, Susp | ......do- | -Do-.
Butler, City of, Bates County | 290026 | January 30, 1975, Emerg; September 4, 1985, Reg; May 3, 2010, Susp | ......do- | -Do-.
Drexel, City of, Bates County | 290064 | June 23, 1975, Emerg; April 8, 1977, Reg; May 3, 2010, Susp | ......do- | -Do-.
Anderson, City of, McDonald County | 290217 | October 1, 1980, Emerg; August 5, 1985, Reg; May 3, 2010, Susp | ......do- | -Do-.
McDonald County, Unincorporated Areas | 290817 | June 30, 1999, Emerg; March 1, 2000, Reg; May 3, 2010, Susp | ......do- | -Do-.
Noel, City of, McDonald County | 290218 | January 19, 1977, Emerg; September 4, 1985, Reg; May 3, 2010, Susp | ......do- | -Do-.
Pineville, City of, McDonald County | 290535 | June 28, 2003, Emerg; May 3, 2010, Reg; May 3, 2010, Susp | ......do- | -Do-.
Southwest City, City of, McDonald County | 290528 | September 23, 1975, Emerg; September 4, 1985, Reg; May 3, 2010, Susp | ......do- | -Do-.
Pulaski County, Unincorporated Areas | 290826 | December 21, 1983, Emerg; April 17, 1985, Reg; May 3, 2010, Susp | ......do- | -Do-.
Richland, City of, Pulaski County | 290656 | January 29, 1976, Emerg; September 10, 1984, Reg; May 3, 2010, Susp | ......do- | -Do-.
St. Robert, City of, Pulaski County | 290662 | N/A, Emerg; November 30, 2004, Reg; May 3, 2010, Susp | ......do- | -Do-.
Nebraska:
Bennington, City of, Douglas County | 310074 | July 10, 1975, Emerg; December 4, 1979, Reg; May 3, 2010, Susp | ......do- | -Do-.
Boys Town, Village of, Doulgas County | 310353 | July 7, 1977, Emerg; July 18, 1983, Reg; May 3, 2010, Susp | ......do- | -Do-.
Douglas County, Unincorporated Areas | 310073 | November 15, 1974, Emerg; January 16, 1981, Reg; May 3, 2010, Susp | ......do- | -Do-.
Omaha, City of, Douglas County | 315274 | November 6, 1970, Emerg; May 7, 1971, Reg; May 3, 2010, Susp | ......do- | -Do-.
Valley, City of, Douglas County | 310078 | May 1, 1975, Emerg; March 18, 1980, Reg; May 3, 2010, Susp | ......do- | -Do-.
Bellevue, City of, Sarpy County | 310191 | April 13, 1973, Emerg; January 16, 1980, Reg; May 3, 2010, Susp | ......do- | -Do-.
La Vista, City of, Sarpy County | 310192 | April 23, 1974, Emerg; January 16, 1980, Reg; May 3, 2010, Susp | ......do- | -Do-.
Papillion, City of, Sarpy County | 315275 | July 2, 1971, Emerg; August 18, 1972, Reg; May 3, 2010, Susp | ......do- | -Do-.
Sarpy County, Unincorporated Areas | 310190 | February 23, 1973, Emerg; January 16, 1981, Reg; May 3, 2010, Susp | ......do- | -Do-.
Region X
Alaska:
Nome, City of, Nome Census Area | 020069 | September 11, 1975, Emerg; September 1, 1983, Reg; May 3, 2010, Susp | ......do- | -Do-.
Shishmaref, City of, Nome Census Area | 020084 | June 5, 1998, Emerg; August 23, 2001, Reg; May 3, 2010, Susp | ......do- | -Do-.
Idaho:
Coeur d'Alene, City of, Kootenai County | 160078 | June 25, 1975, Emerg; September 2, 1982, Reg; May 3, 2010, Susp | ......do- | -Do-.
Fernan Lake, City of, Kootenai County | 160079 | May 11, 1976, Emerg; February 17, 1982, Reg; May 3, 2010, Susp | ......do- | -Do-.
Harrison, City of, Kootenai County | 160080 | March 3, 1976, Emerg; August 3, 1984, Reg; May 3, 2010, Susp | ......do- | -Do-.
Hayden Lake, City of, Kootenai County | 160082 | January 12, 1976, Emerg; September 1, 1981, Reg; May 3, 2010, Susp | ......do- | -Do-.
Kootenai County, Unincorporated Areas | 160076 | April 8, 1974, Emerg; March 1, 1982, Reg; May 3, 2010, Susp | ......do- | -Do-.
Post Falls, City of, Kootenai County | 160083 | June 16, 1975, Emerg; February 17, 1982, Reg; May 3, 2010, Susp | ......do- | -Do-.
Rathdrum, City of, Kootenai County | 160187 | April 23, 1975, Emerg; September 28, 1984, Reg; May 3, 2010, Susp | ......do- | -Do-.
Spirit Lake, City of, Kootenai County | 160084 | May 28, 1975, Emerg; May 26, 1978, Reg; May 3, 2010, Susp | ......do- | -Do-.
* -do- = Ditto.
Code for reading third column: Emerg.—Emergency; Reg.—Regular; Susp.—Suspension.

Dated: April 5, 2010.
Sandra K. Knight,
Deputy Federal Insurance and Mitigation Administrator, Mitigation.

[FR Doc. 2010-8751 Filed 4-15-10; 8:45 am]

BILLING CODE 9110-12-P